DEPARTMENT OF COMMERCE

International Trade Administration

[A-423-077, A-427-078, A-428-082]

Sugar From Belgium, France, and Germany; Notice of Final Results of Expedited Sunset Reviews of Antidumping Duty Findings

AGENCY: Import Administration, International Trade Administration, Department of Commerce.

SUMMARY: On September 1, 2004, the Department of Commerce (“the Department”) initiated sunset reviews of the antidumping duty findings on sugar from Belgium, France, and Germany pursuant to section 751(c) of the Tariff Act of 1930, as amended (“the Act”). On the basis of a Notice of Intent to Participate, adequate substantive responses filed on behalf of domestic interested parties, and inadequate responses from respondent interested parties, the Department conducted expedited (120-day) sunset reviews. As a result of these sunset reviews, the Department finds that revocation of the antidumping duty findings would be likely to lead to continuation or recurrence of dumping. The dumping margins are identified in the Final Results of Reviews section of this notice.

DATES: Effective Date: April 5, 2005.

FOR FURTHER INFORMATION: Hilary E. Sadler, Esq., Office of Policy for Import Administration, International Trade Administration, U.S. Department of Commerce, 14th Street & Constitution Avenue, NW., Washington, DC 20230; telephone: (202) 482-4340.

SUPPLEMENTARY INFORMATION

Background

On September 1, 2004, the Department published the notice of initiation of the sunset reviews of the antidumping duty findings on sugar from Belgium, France, and Germany.¹ On September 13, 2004, the Department received a Notice of Intent to Participate from the American Sugar Cane League, the Sugar Cane Growers Cooperative of Florida, the Florida Sugar Cane League, the Hawaii Sugar Growers, the Rio Grande Valley Sugar Growers, the U.S. Beet Sugar Association, and the American Sugarbeet Growers Association (collectively “domestic interested parties”) within the deadline specified in section 315.218(d)(1)(i) of the Department's regulations. The domestic interested parties claimed interested party status under section 771(9)(E) of the Act, as a trade association, a majority of whose members produce the like product in the United States. On October 1, 2004, the Department received complete substantive responses from the domestic interested parties within the deadline specified in section 351.218(d)(3)(i) of the Department's regulations. We did not receive responses from any respondent interested parties to this proceeding. As a result, pursuant to section 751(c)(3)(B) of the Act and section 351.218(e)(1)(ii)(C)(2) of the Department's regulations, the Department determined to conduct expedited reviews of these findings.

¹ See Initiation of Five-Year (“Sunset”) Reviews, 69 FR 53408 (September 1, 2004) (“Initiation Notice”).

Scope of the Findings

Imports covered by these findings are shipments of sugar, both raw and refined, with the exception of specialty sugars, from Belgium, France and Germany. The finding on sugar from France excludes homeopathic sugar pellets meeting the following criteria: (1) Composed of 85 percent sucrose and 15 percent lactose; (2) have a polished, matte appearance, and more uniformly porous than domestic sugar cubes; (3) produced in two sizes of 2 mm and 3.8 mm in diameter. See Sugar from France; Final Results of Changed Circumstances Antidumping Duty Administrative Review, and Revocation in Part of Antidumping Finding, 61 FR 40609 (August 5, 1996). The merchandise subject to these findings is currently classifiable in the Harmonized Tariff Schedule of the United States (“HTSUS”) at subheadings: 1701.11.05, 1701.11.10, 1701.11.20, 1701.11.50, 1701.12.05, 1701.12.10, 1701.12.50, 1701.91.05, 1701.91.10, 1701.91.30, 1701.99.05, 1701.99.1000, 1701.99.1090, 1701.99.5000, 1701.99.5090, 1702.90.05, 1702.90.10, 1702.90.20, 2106.90.42, 2106.90.44, and 2106.90.46. Although the HTSUS subheadings are provided for convenience and customs purposes, the written description of the scope of the findings is dispositive.

Analysis of Comments Received

All issues raised in these reviews are addressed in the “Issues and Decision Memorandum” (“Decision Memorandum”) from Ronald K. Lorentzen, Acting Director, Office of Policy, Import Administration, to Joseph A. Spetrini, Acting Assistant Secretary for Import Administration, dated March 30, 2005, which is hereby adopted by this notice. The issues discussed in the Decision Memo include the likelihood of continuation or recurrence of dumping and the magnitude of the margins likely to prevail if the findings were revoked. Parties can find a complete discussion of all issues raised in these reviews and the corresponding recommendations in this public memorandum which is on file in room B-099 of the main Commerce Building.

In addition, a complete version of the Decision Memorandum can be accessed directly on the Web at http://ia.ita.doc.gov/sunset/index.html, under the heading “April 2005.” The paper copy and electronic version of the Decision Memorandum are identical in content.

Final Results of Reviews>We determine that revocation of the antidumping duty findings on sugar from Belgium, France, and Germany would likely lead to continuation or recurrence of dumping at the following weighted-average percentage margins:

Manufacturers/exporters/ producers | Weighted average margin (percent)
All Belgian Manufacturers/Exporters | 103
All French Manufacturers/Exporters | 102
All German Manufacturers/Exporters | 121

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: March 30, 2005.
Joseph A. Spetrini,
Acting Assistant Secretary for Import Administration.

[FR Doc. E5-1537 Filed 4-4-05; 8:45 am]

BILLING CODE 3510-DS-P